DEPARTMENT OF THE INTERIOR

National Park Service

Notice of Boundary Revision and Land Exchange: Catoctin Mountain Park

AGENCY: National Park Service, Interior.

ACTION: Notice of boundary revision and land exchange.

SUMMARY: Notice is hereby given that the National Park Service (NPS) is revising the boundary of Catoctin Mountain Park by including three additional tracts of land and deleting one tract of land. The addition of one tract and the deletion of one tract will be effected by means of a land exchange.

FOR FURTHER INFORMATION CONTACT: Chief, Land Resources Program Center, National Park Service, National Capitol Region, 1100 Ohio Drives, SW., Washington DC 20242, (202) 619-7034; or Superintendent, Catoctin Mountain Park, 6602 Foxville Road, Thurmont, Maryland 21788-1598, (301) 663-6751.

SUPPLEMENTARY INFORMATION: Executive Order 7496, dated November 14, 1936, authorizes the Secretary of the Interior (Secretary) through NPS to acquire real property or any interest therein to complete and administer Catoctin Mountain Park, formerly known as Catoctin Recreational Demonstration Area. Public Law 83-654, enacted August 24, 1954, authorizes the Secretary to obtain for the United States lands and interests in land held in private ownership within the established watersheds and boundaries of Catoctin Mountain Park in exchange for Federally owned land of approximately equal value. Section 7c(ii) of the Land and Water Conservation Fund Act, as amended by Section 814(b) of Public Law 104-333, authorizes minor boundary revisions of areas within the National Park System. Such boundary revisions may be made when necessary, after advising the appropriate Congressional Committees, and following publication of a revised boundary map, drawing or other boundary description in the Federal Register. In order to preserve and protect existing natural resources within the boundaries of Catoctin Mountain Park and to effect a technical adjustment to the boundary to rectify a previous survey error, it is necessary to revise the existing boundary of Catoctin Mountain Park to include three additional tracts of land comprising 39.64 acres of land and to delete one tract of land containing 1.65 acres. Tract Numbers 01-110 and 01-111 will be acquired by purchase. Tract Number 01-113 will be acquired in exchange for Tract Number 01-112 which is to be excluded from the boundary. The exclusion of Tract Number 01-112 will rectify a previous survey error.

Notice is hereby given that the boundary of Catoctin Mountain Park is hereby revised to include three additional tracts of land and to delete one tract of land as more particularly described as follows:

Tract Number 01-110, contains 18.3 acres of unimproved land and is more particularly identified as part of Parcel 49 on Frederick County, Maryland, Tax Map 12. Tract Number 01-111 contains 20.21 acres of unimproved land and is more particularly identified as Parcel 6 on Frederick County, Maryland, Tax Map 18. Tract Number 01-112 contains 1.65 acres of land improved with a wood-framed picnic pavilion and is more particularly identified as part of Parcel 105 on Frederick County, Maryland, Tax Map 18. Tract Number 01-113 contains 1.13 acres of unimproved land and is more particularly identified as part of Catoctin Mountain Park.

Detailed information concerning the above referenced properties in the form of maps, drawings and descriptions are available for inspection in the office of the Land Resources Program Center, National Capital Region, National Park Service, 1100 Ohio Drive, SW., Washington, DC 20242.

Dated: August 14, 2001.
Terry R. Carlstrom,
Regional Director, National Park Service, National Capital Region.

[FR Doc. 01-25645 Filed 10-11-01; 8:45 am]

BILLING CODE 4310-70-M